DEPARTMENT OF THE INTERIOR

Bureau of Land Management

[ID 220 5101 ER D025]

Notice of Availability of the Record of Decision for the Cotterel Wind Power Project and Cassia Resource Management Plan Amendment/Environmental Impact Statement

AGENCY: Lead Agency—Bureau of Land Management, Interior; Cooperating Agencies—U.S. Fish and Wildlife Service, Interior; Bureau of Reclamation, Interior; Bonneville Power Administration, Energy; Idaho Department of Lands; Cassia County Commissioners; Participating Agency—Idaho Department of Fish and Game.

ACTION: Notice of availability of a Record of Decision (ROD).

SUMMARY: In accordance with the Federal Land Policy and Management Act of 1976 and the National Environmental Policy Act of 1969, the Bureau of Land Management announces the availability of the ROD for the Cassia Resource Management Plan Amendment/Environmental Impact Statement (EIS) for the Cotterel Wind Power Project, located in south central Idaho. The decision contained in the ROD is two-fold. It approves both the amendment to the Cassia Resource Management Plan and the issuance of a right-of-way grant pursuant to Title V of the Federal Land Policy and Management Act of 1976.

ADDRESSES: Copies of the Cotterel Wind Power Project ROD are available upon request from the Field Office Manager, Burley Field Office, Bureau of Land Management, 15 East 200 South, Burley, ID 83318. The document may also be viewed on the following Web site: http://www.id.blm.gov/offices/burley/index.htm.

FOR FURTHER INFORMATION CONTACT: Scott Barker, Project Manager, Burley Field Office, Bureau of Land Management, 15 East 200 South, Burley, ID 83318, phone (208) 677-6678, fax (208) 677-6699 or e-mail: Scott_Barker@blm.gov.

SUPPLEMENTARY INFORMATION: Windland, Inc. proposes to construct, operate, and maintain a wind-powered electric generation facility on the ridgeline of Cotterel Mountain, near the towns of Albion, Malta, and Burley in south central Idaho. Windland, Inc. has a development agreement with Shell Wind Energy, Inc. for this project.

Four alternatives were analyzed in a four-year collaborative process to arrive at the decisions contained in the ROD.

The approved Cassia Resource Management Plan Amendment permits the development of a single wind energy project as described in Alternative C of the Final Environmental Impact Statement, published in March 2006, and in the Plan of Development (POD) and environmental protection measures, which are attached to and made a part of the ROD.

BLM received eight protests to the proposed plan amendment, all of which have been resolved. The Governor determined this project EIS and plan amendment are both consistent with State policy by letter dated May 30, 2006.

Dated: July 31, 2006.
Kenneth E. Miller,
Burley Field Office Manager, Bureau of Land Management.

[FR Doc. E6-14647 Filed 9-1-06; 8:45 am]

BILLING CODE 4310-GG-P